DEPARTMENT OF TRANSPORTATION

Federal Aviation Administration

14 CFR Part 39

[Docket No. FAA-2006-25085; Directorate Identifier 2006-SW-02-AD; Amendment 39-14996; AD 2007-06-15]

RIN 2120-AA64

Airworthiness Directives; Eurocopter France Model AS350B, AS350B1, AS350B2, AS350B3, AS350BA, AS350C, AS350D, and AS350D1 Helicopters

AGENCY: Federal Aviation Administration, DOT.

ACTION: Final rule.

SUMMARY: This amendment adopts a new airworthiness directive (AD) for the specified Eurocopter France (Eurocopter) model helicopters that requires replacing a certain hydraulic drive belt (drive belt). Also required is reducing the lubrication time interval for a certain hydraulic pump drive shaft (drive shaft). This amendment is prompted by in-flight failures of the drive belt and the drive shaft. The actions specified by this AD are intended to prevent in-flight failure of the drive belt or drive shaft, loss of hydraulic power to the flight control system, and subsequent loss of control of the helicopter.

DATES: Effective April 23, 2007.

ADDRESSES: You may get the service information identified in this AD from American Eurocopter Corporation, 2701 Forum Drive, Grand Prairie, Texas 75053-4005, telephone (972) 641-3460, fax (972) 641-3527.

Examining the Docket: You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION: A proposal to amend 14 CFR part 39 to include an AD for the specified model helicopters was published in the Federal Register on June 30, 2006 (71 FR 37515). That action proposed to require the following:

• At or before the next 500-hour time-in-service (TIS) inspection, replacing the drive belt with an airworthy drive belt that is not included in the applicability of this AD, and

• Within 110 hours TIS or at the next scheduled lubrication interval for the drive shaft splines, and thereafter at intervals not to exceed 110 hours TIS or 6 months, whichever occurs first, lubricating the drive shaft splines.

Eurocopter has issued the following:

• Service Bulletin No. 63.00.08, dated May 27, 2002, which specifies installing a poly-v type drive belt on the driving hydraulic pump; and

• Service Bulletin No. 29.00.04, Revision 1, dated January 27, 2004, which specifies reducing the lubrication interval and installing an O-ring seal in the groove of the hydraulic pump drive shaft in order to prevent early wear of the splines.

Interested persons have been afforded an opportunity to participate in the making of this amendment. Due consideration has been given to the one comment received. The commenter states that the Eurocopter AS350 (BA and B2) Master Servicing Recommendations along with the applicable Service Bulletin(s) and good preventative maintenance practices provide a good level of safety, therefore, he suggests that the requirement to grease the hydraulic pump drive splines every 110 hours be removed from the AD because it is currently mandated by Eurocopter to be accomplished every 100 hours on all models of the AS350 Series helicopter. We do not agree with the recommendation because, depending on the aircraft operation, compliance with the manufacturer's service information may not be required, therefore, in order to mandate corrective action for the unsafe condition, this AD requires all affected aircraft to comply with the greasing interval at intervals not to exceed 110 hours TIS or 6 months, whichever occurs first.

Also, when finalizing this final rule, we discovered that we had omitted the Eurocopter Model AS355E helicopters from the applicability of the proposed AD. Therefore, we may supersede this action in the future to add the additional model helicopter to the applicability.

After careful review of the available data, including the comments noted above, the FAA has determined that air safety and the public interest require the adoption of the rule as proposed.

We estimate that this AD will affect 700 helicopters of U.S. registry. Replacing each drive belt will take approximately 25 work hours and lubricating the drive shaft splines will take approximately 1 work hour. The average labor rate is $80 an hour. Each replacement drive belt costs about $3,500. Based on these figures, we estimate the total cost impact of this AD on U.S. operators to be $4,130,000, assuming no helicopter has been modified with the new drive shaft belt and that the splines are lubricated 5 times in the first year.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2007-06-15 Eurocopter France: Amendment 39-14996. Docket No. FAA-2006-25085; Directorate Identifier 2006-SW-02-AD.

Applicability

Model AS350B, AS350B1, AS350B2, AS350B3, AS350BA, AS350C, AS350D, and AS350D1 helicopters with a hydraulic drive belt (drive belt), part number (P/N) 704A33-690-004, or a hydraulic pump drive shaft (drive shaft), P/N 704A34-310-006, installed, certificated in any category.

Compliance

Required as indicated.

To prevent loss of hydraulic power to the flight control system and subsequent loss of control of the helicopter, accomplish the following:

(a) At or before the next 500-hour time-in-service (TIS) inspection, unless accomplished previously, replace the drive belt with an airworthy drive belt that is not included in the applicability of this AD.

(b) Within 110 hours TIS or at the next scheduled lubrication interval for the drive shaft splines, and thereafter at intervals not to exceed 110 hours TIS or 6 months, whichever occurs first, lubricate the drive shaft splines.

(c) This action reduces the interval for lubricating the drive shaft splines from 550 hours TIS or 2 years, whichever occurs first, to 110 hours TIS or 6 months, whichever occurs first.

Note: Eurocopter Service Bulletin No. 63.00.08, dated May 27, 2002, and No. 29.00.04, Revision 1, dated January 27, 2004, pertain to the subject of this AD.

(d) To request a different method of compliance or a different compliance time for this AD, follow the procedures in 14 CFR 39.19. Contact the Manager, Rotorcraft Directorate, Regulations and Guidance Group, FAA, ATTN: Gary Roach, Aviation Safety Engineer, Fort Worth, Texas 76193-0111, telephone (817) 222-5130, fax (817) 222-5961, for information about previously approved alternative methods of compliance.

(e) This amendment becomes effective on April 23, 2007.

Issued in Fort Worth, Texas, on March 9, 2007.
Mark R. Schilling,
Acting Manager, Rotorcraft Directorate, Aircraft Certification Service.

[FR Doc. E7-4851 Filed 3-16-07; 8:45 am]

BILLING CODE 4910-13-P